DEPARTMENT OF JUSTICE

[OMB Number 1110-0001]

Agency Information Collection Activities; Proposed eCollection eComments Requested; Extension of a Previously Approved Collection; Return A—Monthly Return of Offenses Known to Police and Supplement to Return A—Monthly Return of Offenses Known to Police

AGENCY: Federal Bureau of Investigation (FBI), Department of Justice.

ACTION: 60-Day notice.

SUMMARY: The Criminal Justice Information Services (CJIS) Division, FBI, Department of Justice (DOJ), will be submitting the following information collection request to the Office of Management and Budget (OMB) for review and approval in accordance with the Paperwork Reduction Act of 1995.

DATES: Comments are encouraged and will be accepted for 60 days until January 20, 2026.

FOR FURTHER INFORMATION CONTACT: If you have additional comments, especially on the estimated public burden or associated response time, suggestions, or need a copy of the proposed information collection instrument with instructions or additional information, please contact Linda Shriver, Acting Unit Chief, Crime and Law Enforcement Statistics Unit, FBI, CJIS Division, Module D-2, 1000 Custer Hollow Road, Clarksburg, West Virginia 26306, 771-228-2393, or at ucr@fbi.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under Title 28, U.S. Code 534, Acquisition, Preservation, and Exchange of Identification Records; Appointments of Officials, this collection requests Part I offense and clearance data, as well as stolen and recovered monetary values of stolen property throughout the United States from federal, state, county, city, tribal, and territorial law enforcement agencies in order for the FBI's Uniform Crime Reporting (UCR) Program to serve as the national clearinghouse for the collection and dissemination of crime data and to publish these statistics.

Overview of This Information Collection

1. Type of Information Collection: Extension of a previously approved collection.

2. The Title of the Form/Collection: Return A—Monthly Return of Offenses Known to Police and Supplement to Return A—Monthly Return of Offenses Known to Police.

3. The agency form number, if any, and the applicable component of the Department sponsoring the collection: Form Number: 1-720 and 1-706. Sponsor: CJIS Division, FBI, DOJ.

4. Affected public who will be asked or required to respond, as well as the obligation to respond: Affected public: Federal, state, county, city, tribal, and territorial law enforcement agencies. The obligation to respond is mandatory for federal agencies and voluntary for non-federal agencies.

5. An estimate of the total number of respondents and the amount of time estimated for an average respondent to respond: The FBI's UCR Program continues the transition to collect data solely under the National Incident-Based Reporting System (NIBRS). Until the transition is complete, updates and new submissions from those agencies still reporting via the Summary Reporting System (SRS) are being accepted. In 2024, there were 19,328 law enforcement agencies actively enrolled in the FBI's UCR Program (i.e., the universe of potential respondents). Data submissions from approximately 2,381 law enforcement agencies reporting under SRS totaled 60,447 in 2024. The estimated response time for the Return A is 10 minutes and that for the Supplement to Return A is 11 minutes. To provide a singular calculation of the estimated burden, the approximate minutes per form used for the combined collection is 10.5 (i.e., the average of the times required to complete the forms).

6. An estimate of the total annual burden (in hours) associated with the collection: There are approximately 10,578 annual burden hours associated with this collection. As additional SRS agencies complete the transition to NIBRS, it is expected that the number of submissions and, subsequently, the annual burden hours associated with this data collection will steadily decline. The burden hour estimate presented here is based on the most recent submission values to achieve the highest possible burden estimate.

7. An estimate of the total annual cost burden associated with the collection, if applicable: The estimated monetary cost burden for supplies, storage, or the like for this information collection is $0. Incident reports are submitted through an online system maintained by the FBI.

Total Burden Hours
Activity | Number of respondents | Frequency | Total annual responses | Time per response (minutes) | Total annual burden (hours)
Return A and Supplement to Return A Forms | 2,381 | Variable | 60,447 | 10.5 | 10,578
Unduplicated Totals | 2,381 |  | 60,447 |  | 10,578

If additional information is required, contact: Darwin Arceo, Department Clearance Officer, United States Department of Justice, Justice Management Division, Enterprise Portfolio Management, Two Constitution Square, 145 N Street NE, 4W-218, Washington, DC 20530.

Dated: November 19, 2025.
Darwin Arceo,
Department Clearance Officer for PRA, U.S. Department of Justice.

[FR Doc. 2025-20576 Filed 11-20-25; 8:45 am]

BILLING CODE 4410-02-P